DEPARTMENT OF COMMERCE

National Oceanic and Atmospheric Administration

Agency Information Collection Activities; Submission to the Office of Management and Budget (OMB) for Review and Approval; Comment Request; National Marine Fisheries Service (NMFS) Observer Programs' Information That Can Be Gathered Only Through Questions

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on August 31, 2023 (88 FR 60184) during a 60-day comment period. This notice allows for an additional 30 days for public comments.

Agency: National Oceanic and Atmospheric Administration, Commerce.

Title: NMFS Observer Programs' Information That Can Be Gathered Only Through Questions.

OMB Control Number: 0648-0593.

Form Number(s): None.

Type of Request: Regular submission. Revision and extension of a current information collection.

Number of Respondents: 2,155.

Average Hours per Response: Northeast Fisheries Observer Program and At-Sea Monitors, 117 minutes; North Pacific Groundfish and Halibut Observer Program and Processing Plants, 56 minutes; Alaska Marine Mammal Observer Program, 15 minutes; West Coast Groundfish Observer Program, 31 minutes; Pacific Islands Region Observer Program, 86 minutes; Southeast Fishery Observer Program, 55 minutes; West Coast Region Observer Program, 62 minutes. Information will be collected for observed fishing trips and deployments to fish processing plants; therefore, there will be multiple responses for some respondents, but counted as one response per trip or plant visit.

Total Annual Burden Hours: 15,728.

Needs and Uses: This is a request for revision and extension of an existing information collection.

The National Oceanic and Atmospheric Administration (NOAA), National Marine Fisheries Service (NMFS) deploys fishery observers on United States (U.S.) commercial fishing vessels and to fish processing plants in order to collect biological and economic data. NMFS has at least one observer program in each of its five Regions. These observer programs provide the most reliable and effective method for obtaining information that is critical for the conservation and management of living marine resources. Observer programs primarily obtain information through direct observations by employees or agents of NMFS; and such observations are not subject to the Paperwork Reduction Act (PRA). However, observer programs also collect the following information that requires clearance under the PRA: (1) Standardized questions of fishing vessel captains/crew or fish processing plant managers/staff, which include gear and performance questions, safety questions, and trip costs, crew size and other economic questions; (2) questions asked by observer program staff/contractors to plan observer deployments; (3) forms that are completed by observers and that fishing vessel captains are asked to review and sign; (4) questionnaires to evaluate observer performance; and (5) a form to certify that a fisherman is the permit holder when requesting observer data from the observer on the vessel.

The information collected will be used to: (1) Monitor catch and bycatch in federally managed commercial fisheries; (2) understand the population status and trends of fish stocks and protected species, as well as the interactions between them; (3) determine the quantity and distribution of net benefits derived from living marine resources; (4) predict the biological, ecological, and economic impacts of existing management action and proposed management options; and (5) ensure that the observer programs can safely and efficiently collect the information required for the previous four uses. In particular, these biological and economic data collection programs contribute to legally mandated analyses required under the Magnuson-Stevens Fishery Conservation and Management Act (MSA), the Endangered Species Act (ESA), the Marine Mammal Protection Act (MMPA), the National Environmental Policy Act (NEPA), the Regulatory Flexibility Act (RFA), as well as a variety of state statutes. The confidentiality of the data will be protected as required by the MSA, Section 402(b).

This collection will be revised as follows. First is the expansion of observers to include an additional fishery. The Southeast region will begin sending observers out on Southeast reef fish fishery trips and thus needs to add this fishery to this collection. Second, NOAA is combining the Southeast observer efforts into one program. The third change is the West Coast Groundfish Observer Program (WCGOP) would like to start collecting the names of crew members within their observer logbooks. The data will be recorded on paper, scanned in, and stored according to vessel name. This information will only be accessed if there is an enforcement issue. The final change is also within the West Coast Groundfish Observer Program. They have introduced a new phone app that captains are using to declare upcoming fishing trips and NMFS is using to let them know if they have been selected for observer coverage. Other observer programs are also working on converting to smart phone apps, but they have not yet been implemented.

Affected Public: Business or other for-profit organizations.

Frequency: On occasion.

Respondent's Obligation: Voluntary.

Legal Authority: The Magnuson-Stevens Fishery Conservation and Management Act (MSA), the Endangered Species Act (ESA), Executive Order 12866 (E.O. 12866), and the Marine Mammal Protection Act (MMPA).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0593.

Sheleen Dumas,
Department PRA Clearance Officer, Office of the Under Secretary for Economic Affairs, Commerce Department.

[FR Doc. 2023-27834 Filed 12-18-23; 8:45 am]

BILLING CODE 3510-22-P